DEPARTMENT OF TRANSPORTATION

Federal Aviation Administration

14 CFR Part 39

[Docket No. FAA-2021-0504; Project Identifier AD-2020-01380-T; Amendment 39-21876; AD 2021-26-17]

RIN 2120-AA64

Airworthiness Directives; The Boeing Company Airplanes

AGENCY: Federal Aviation Administration (FAA), DOT.

ACTION: Final rule.

SUMMARY: The FAA is superseding Airworthiness Directive (AD) 2019-03-26, which applied to certain The Boeing Company Model 737-600, -700, -700C, -800, -900, and -900ER series airplanes. AD 2019-03-26 required modifying the passenger service units (PSUs) and life vest panels by replacing the existing inboard lanyard and installing two new lanyards on the outboard edge of the PSUs and life vest panels; measuring the distance between the hooks of the torsion spring of the lanyard assembly; replacing discrepant lanyard assemblies; and re-identifying serviceable lanyard assemblies. This AD was prompted by a determination that certain airplanes are listed in the wrong configuration and certain PSUs have not been correctly re-identified. This AD retains the requirements of AD 2019-03-26, and, for certain airplanes, requires an inspection to determine if the re-identified PSU part number is correct, and further re-identification if necessary. The FAA is issuing this AD to address the unsafe condition on these products.

DATES: This AD is effective February 15, 2022.

The Director of the Federal Register approved the incorporation by reference of a certain publication listed in this AD as of February 15, 2022.

ADDRESSES: For service information identified in this final rule, contact Boeing Commercial Airplanes, Attention: Contractual & Data Services (C&DS), 2600 Westminster Blvd., MC 110-SK57, Seal Beach, CA 90740-5600; telephone 562-797-1717; internet https://www.myboeingfleet.com. You may view this service information at the FAA, Airworthiness Products Section, Operational Safety Branch, 2200 South 216th St., Des Moines, WA. For information on the availability of this material at the FAA, call 206-231-3195. It is also available at https://www.regulations.gov by searching for and locating Docket No. FAA-2021-0504.

Examining the AD Docket

You may examine the AD docket at https://www.regulations.gov by searching for and locating Docket No. FAA-2021-0504; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Tony Koung, Aerospace Engineer, Cabin Safety and Environmental Systems Section, FAA, Seattle ACO Branch, 2200 South 216th St., Des Moines, WA 98198; phone and fax: 206-231-3985; email: tony.koung@faa.gov.

SUPPLEMENTARY INFORMATION:

Background

The FAA issued a notice of proposed rulemaking (NPRM) to amend 14 CFR part 39 to supersede AD 2019-03-26, Amendment 39-19578 (84 FR 7266, March 4, 2019) (AD 2019-03-26). AD 2019-03-26 applied to certain The Boeing Company Model 737-600, -700, -700C, -800, -900, and -900ER series airplanes. The NPRM published in the Federal Register on June 30, 2021 (86 FR 34653). The NPRM was prompted by a determination that certain airplanes are listed in the wrong configuration and certain PSUs have not been correctly re-identified. In the NPRM, the FAA proposed to continue to require the requirements of AD 2019-03-26, and, for certain airplanes, would require an inspection to determine if the re-identified PSU part number is correct, and further re-identification if necessary. The FAA is issuing this AD to address PSUs and life vest panels detaching from the supporting airplane structure, which could lead to passenger injuries and impede passenger and crew egress during evacuation.

Discussion of Final Airworthiness Directive

Comments

The FAA received comments from two commenters, including The Boeing Company and an individual, who supported the NPRM without change.

The FAA received additional comments from two other commenters, including All Nippon Airways (ANA) and Aviation Partners Boeing (APB). The following presents the comments received on the NPRM and the FAA's response to each comment.

Request To Allow Credit for Earlier Revision of Service Information

ANA requested that the proposed AD be revised to add a note to allow use of Boeing Service Bulletin 737-25-1707, Revision 1, dated May 18, 2018. ANA stated that it has some airplanes that are identified as “Group 1” airplanes in Boeing Special Attention Service Bulletin 737-25-1707, Revision 2, dated July 27, 2020, and on which Revision 1 of the service bulletin was accomplished. ANA added that the changes described in Revision 2 of the service bulletin do not affect the work instructions for airplanes identified as “Group 1” and believed that Revision 1 could also be used to comply with the proposed requirements.

The FAA disagrees with the request to revise this AD to allow use of Boeing Service Bulletin 737-25-1707, Revision 1, dated May 18, 2018, as it is not necessary. Group 1 is divided into three configurations, depending on whether or not earlier revisions of Boeing Special Attention Service Bulletin 737-25-1707, Revision 2, dated July 27, 2020, have been done. Group 1 airplanes on which Boeing Service Bulletin 737-25-1707, Revision 1, dated May 18, 2018, has been done are defined as Group 1, Configuration 3 airplanes. The Accomplishment Instructions of Boeing Special Attention Service Bulletin 737-25-1707, Revision 2, dated July 27, 2020, specify for Group 1, Configuration 3 airplanes, that no further action is required, and therefore this AD does not require further action. The FAA has not revised this AD in this regard.

Effects of Winglets on Accomplishment of the Proposed Actions

APB stated that the installation of winglets per Supplemental Type Certificate (STC) ST00830SE does not affect the accomplishment of the manufacturer's service instructions.

The FAA agrees with the commenter that STC ST00830SE does not affect the accomplishment of the manufacturer's service instructions. Therefore, the installation of STC ST00830SE does not affect the ability to accomplish the actions required by this AD. The FAA has not changed this AD in this regard.

Conclusion

The FAA reviewed the relevant data, considered any comments received, and determined that air safety requires adopting this AD as proposed. Except for minor editorial changes, this AD is adopted as proposed in the NPRM. None of the changes will increase the economic burden on any operator.

Related Service Information Under 1 CFR Part 51

The FAA reviewed Boeing Special Attention Service Bulletin 737-25-1707, Revision 2, dated July 27, 2020. This service information specifies procedures for modifying the PSUs and life vest panels by: Replacing the existing inboard lanyard and installing two new lanyards on the outboard edge of the PSUs and life vest panels (secondary retention features); measuring the distance between the hooks of the torsion spring of the lanyard assembly; replacing any discrepant lanyard assemblies; and re-identifying serviceable lanyard assemblies. For some airplanes, the service information specifies procedures for inspecting PSUs for correct re-identification part numbers and, if necessary, re-identifying the PSU. This service information is reasonably available because the interested parties have access to it through their normal course of business or by the means identified in ADDRESSES.

Costs of Compliance

The FAA estimates that this AD will affect 2,045 airplanes of U.S. registry. The FAA estimates the following costs to comply with this AD:

Estimated Costs
Action | Labor cost | Parts cost | Cost per product | Cost on U.S. operators
Measurement and modification (retained actions from AD 2019-03-26) | Up to 70 work-hour × $85 per hour = $5,950 | Up to $13,000 | Up to $18,950 | Up to $38,752,750.
Inspection of re-identified parts (per PSU) (new actions) | 1 work-hour × $85 per hour = $85 | $0 | $85 | $173,825.

The FAA estimates the following costs to do any necessary replacements or re-identifications that will be required based on the results of the inspection. The FAA has no way of determining the number of aircraft that might need these replacements or re-identifications:

On-Condition Costs
Action | Labor cost | Parts cost | Cost per product
Replacement or re-identification (per PSU or life vest panel) | Up to 2 work-hour × $85 per hour = $170 | Up to $196 | Up to $366.

The FAA has included all known costs in its cost estimate. According to the manufacturer, however, some of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-03-26, Amendment 39-19578 (84 FR 7266, March 4, 2019); and

b. Adding the following new AD:

2021-26-17 The Boeing Company: Amendment 39-21876; Docket No. FAA-2021-0504; Project Identifier AD-2020-01380-T.

(a) Effective Date

This airworthiness directive (AD) is effective February 15, 2022.

(b) Affected ADs

This AD replaces AD 2019-03-26, Amendment 39-19578 (84 FR 7266, March 4, 2019) (AD 2019-03-26).

(c) Applicability

This AD applies to The Boeing Company Model 737-600, -700, -700C, -800, -900, and -900ER series airplanes, certificated in any category, without a Boeing Sky Interior (BSI).

(d) Subject

Air Transport Association (ATA) of America Code 25, Equipment/furnishings.

(e) Unsafe Condition

This AD was prompted by reports of passenger service units (PSUs) becoming detached from the supporting airplane structure in several Model 737 series airplanes during survivable accidents. The FAA is issuing this AD to address PSUs and life vest panels detaching from the supporting airplane structure, which could lead to passenger injuries and impede passenger and crew egress during evacuation.

(f) Compliance

Comply with this AD within the compliance times specified, unless already done.

(g) Required Actions

Within 60 months after April 8, 2019 (the effective date of AD 2019-03-26), do all applicable actions identified as “RC” (required for compliance) in, and in accordance with, the Accomplishment Instructions of Boeing Special Attention Service Bulletin 737-25-1707, Revision 2, dated July 27, 2020.

(h) Parts Installation Limitation

As of the applicable time specified in paragraph (h)(1) or (2) of this AD, no person may install on any airplane a PSU or life vest panel, unless the lanyard assembly has been modified (secondary retention features added) or re-identified, as applicable, as required by paragraph (g) of this AD.

(1) For airplanes that have PSUs or life vest panels without the secondary retention features installed: After modification or re-identification, as applicable, of the airplane as required by paragraph (g) of this AD.

(2) For airplanes that have PSUs or life vest panels with the secondary retention features installed: As of the effective date of this AD.

(i) Alternative Methods of Compliance (AMOCs)

(1) The Manager, Seattle ACO Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (j) of this AD. Information may be emailed to: 9-ANM-Seattle-ACO-AMOC-Requests@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) AMOCs approved for AD 2019-03-26 are approved as AMOCs for the corresponding provisions of Boeing Special Attention Service Bulletin 737-25-1707, Revision 2, dated July 27, 2020, that are required by paragraph (g) of this AD.

(j) Related Information

For more information about this AD, contact Tony Koung, Aerospace Engineer, Cabin Safety and Environmental Systems Section, FAA, Seattle ACO Branch, 2200 South 216th St., Des Moines, WA 98198; phone and fax: 206-231-3985; email: tony.koung@faa.gov.

(k) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Special Attention Service Bulletin 737-25-1707, Revision 2, dated July 27, 2020.

(ii) [Reserved]

(3) For service information identified in this AD, contact Boeing Commercial Airplanes, Attention: Contractual & Data Services (C&DS), 2600 Westminster Blvd., MC 110-SK57, Seal Beach, CA 90740-5600; telephone 562-797-1717; internet https://www.myboeingfleet.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: https://www.archives.gov/federal-register/cfr/ibr-locations.html.

Issued on December 13, 2021.
Lance T. Gant,
Director, Compliance & Airworthiness Division, Aircraft Certification Service.

[FR Doc. 2022-00031 Filed 1-10-22; 8:45 am]

BILLING CODE 4910-13-P